NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (#1171)

Date/Time: May 19, 2011; 9 a.m. to 5:30 p.m. May 20, 2011; 9 a.m. to 1 p.m.

Place: National Science Foundation, 4201 Wilson Boulevard, Stafford II, Room 555, Arlington, VA 22230.

Type of Meeting: Open.

Contact Person: Ms. Lisa Jones, Office of the Assistant Director, Directorate for Social, Behavioral and Economic Sciences, National Science Foundation, 4201 Wilson Boulevard, Room 905, Arlington, Virginia 22230, 703-292-8700

Summary of Minutes: May be obtained from contact person listed above.

Purpose of Meeting: To provide advice and recommendations to the National Science Foundation on major goals and policies pertaining to Social, Behavioral and Economic Sciences Directorate programs and activities.

Agenda:

Thursday, May 19, 2011

Updates and discussions on continuing activities

• Budget priorities for FY 2012

• SBE/SES COV Report

• Science of Learning Centers (SLC) Program

• AC Report on SBE Futures

• NCSES (formerly SRS) Update

SBE 2020 Activity

New SBE Data & Infrastructure Activities

Friday, May 20, 2011

Discussion with NSF Director and Deputy Director

Overview and discussion

• Science, Engineering & Education for Sustainability (SEES)

• Cyberinfrastructure Framework for the 21st Century (CIF21)

Opportunities for International Partnerships with ESRC

Dated: April 26, 2011.
Susanne Bolton,
Committee Management Officer.

[FR Doc. 2011-10365 Filed 4-28-11; 8:45 am]

BILLING CODE 7555-01-P